DEPARTMENT OF ENERGY
Federal Energy Regulatory Commission
[Project No. 2207-009]
Mosinee Paper Corporation ; Notice of Settlement Agreement and Soliciting Comments
January 22, 2004.
Take notice that the following settlement agreement has been filed with the Commission and is available for public inspection.
a. Type of Application: Settlement agreement.
b. Project No.: 2207-009.
c. Date Filed: January 7, 2004.
d. Applicant: Mosinee Paper Corporation.
e. Name of Project: Mosinee Hydroelectric Project.
f. Location: On the Wisconsin River in the town of Mosinee, Marathon County, Wisconsin. The project does not utilize Federal lands.
g. Filed Pursuant to: Rule 602 of the Commission's rules of practice and procedures, 18 CFR 385.602.
h. Applicant Contact: Mr. Jeff Verdoorn, Mosinee Paper Corporation, 100 Main Street, Mosinee, Wisconsin 54455 (715) 693-2111.
i. FERC Contact: Michael Spencer, michael.spencer@ferc.gov, (202) 502-6093.
j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426.
Under the Commission(s rules of practice, intervenors in the relicensing proceeding filing documents with the Commission must serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.
k. Mosinee Paper Corporation filed the final Settlement Agreement on behalf of itself and the State of Wisconsin. The purpose of the Settlement Agreement is to resolve, among the signatories, all water resource related issues of Mosinee Paper Corporation pending application for new license for the Mosinee Hydroelectric Project. The relicensing issues resolved through the settlement include requirements for flashboards, recreation issues, operations, fish passage and fish protection, minimum flows, headwater and tailwater elevation monitoring, and land management practices.

l. A copy of the Settlement Agreement is available for review at the Commission in the Public Reference Room or may be viewed on the Commission's Web site at http://www. ferc.gov, using the eLibrary link. Enter the docket number, excluding the last three digits in the docket number field to access the document. For assistance, contact FERC Online Support at FERCOnlineSupport@ferc.gov or toll-free at 1-866-208-3676, or for TTY, (202) 502-8659. A copy is also available for inspection and reproduction at the address in item h above.
You may also register online at http://www.ferc.gov/esubscribenow.htm to be notified via e-mail of new filings and issuances related to this or other pending projects. For assistance, contact FERC Online Support. To view upcoming FERC events, go to www.ferc.gov and click on “View Entire Calendar”.

Magalie R. Salas,
Secretary.

[FR Doc. E4-149 Filed 1-29-04; 8:45 am]
BILLING CODE 6717-01-P